DEPARTMENT OF TRANSPORTATION

National Highway Traffic Safety Administration

[Docket No. NHTSA-2019-0113]

Agency Information Collection Activities; Notice and Request for Comment; Vehicle Information for the General Public

AGENCY: National Highway Traffic Safety Administration (NHTSA), Department of Transportation.

ACTION: Notice and request for comments on a reinstatement of a previously approved collection of information.

SUMMARY: In compliance with the Paperwork Reduction Act of 1995, this notice announces that the Information Collection Request (ICR) summarized below will be submitted to the Office of Management and Budget (OMB) for review and approval. The ICR describes the nature of the information collection, Vehicle Information for the General Public, and its expected burden. A Federal Register Notice with a 60-day comment period soliciting comments on the information collection was published on July 7, 2020. One comment was received in general support of this collection request.

DATES: Comments must be submitted on or before December 13, 2021.

ADDRESSES: Written comments and recommendations for the proposed information collection, including suggestions for reducing the burden, should be submitted to the Office of Management and Budget at www.reginfo.gov/public/do/PRAMain. To find this particular information collection, select “Currently under Review—Open for Public Comment” or use the search function.

FOR FURTHER INFORMATION CONTACT: For additional information or access to background documents, contact Ms. Johanna Lowrie, U.S. Department of Transportation, NHTSA, Room W43-410, 1200 New Jersey Ave. SE, Washington, DC 20590. Ms. Lowrie's telephone number is (202) 366-5269. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Vehicle Information for the General Public.

OMB Control Number: 2127-0629.

Form Numbers: N/A.

Type of Request: Reinstatement of a previously approved collection.

Type of Review Requested: Regular.

Length of Approval Requested: Three years.

Summary of the Collection of Information: NHTSA's mission is to save lives, prevent injury, and reduce motor vehicle crashes. Consumer information programs are an important tool for improving vehicle safety through market forces. Pursuant to 49 U.S.C. 32302, the Secretary of Transportation (NHTSA by delegation) is directed to provide to the public the following information about passenger motor vehicles: Damage susceptibility; crashworthiness, crash avoidance, and any other areas the Secretary determines will improve safety of passenger motor vehicles; and the degree of difficulty of diagnosis and repair of damage to, or failure of, mechanical and electrical systems. For more than 40 years, under its New Car Assessment Program, NHTSA has been providing consumers with vehicle safety information such as frontal and side crash test results, advanced crash avoidance technology system performance test results, rollover propensity, and the availability of a wide array of safety features provided on new model year vehicles. The information collection includes new model year vehicle information such as vehicle make, model, body style, certification style, projected sales volume, crashworthiness features, advanced crash avoidance technologies, crash avoidance technologies test data, vehicle setup information, and side air bag information.

Description of the Need for the Information and Proposed Use of the Information: The consumer information collected will be used to disseminate vehicle safety information via the agency's www.nhtsa.gov website, in the “Purchasing with Safety in Mind: What to look for when buying a new vehicle” brochure, and in other consumer publications. Additionally, the Agency uses this information collection to respond to consumer inquiries, analyze rulemaking petitions, and provide technical assistance to Congress.

60-Day Notice: A Federal Register notice with a 60-day comment period soliciting public comments on the following information collection was published on July 7, 2020 (85 FR 40733). NHTSA received one public comment stating general support of the collection request.

Affected Public: Manufacturers that sell passenger cars and light truck vehicles (including sport utility vehicles, pickup trucks, and vans) that have a Gross Vehicle Weight Rating (GVWR) of 10,000 pounds or less in the United States.

Estimated Number of Respondents: 21.

Frequency: Annually.

Number of Responses: 1.

There are approximately 21 vehicle manufacturers that sell passenger cars and light truck vehicles (including sport utility vehicles, pickup trucks, and vans) in the United States with a Gross Vehicle Weight Rating of 10,000 pounds or less, that NHTSA requests annually to respond to this information request.

Estimated Total Annual Burden Hours: 1,995 hours.

NHTSA estimates that these 21 vehicle manufacturers produce an aggregate of approximately 400 vehicle models each year, for an average of 19 models per manufacturer. NHTSA estimates the burden associated with this collection based on an expected 5 hours to prepare a response for each vehicle model. Therefore, NHTSA estimates the annual burden to be 95 hours per manufacturer (19 vehicle models × 5 hours) and estimates that the total burden will be approximately 1,995 hours per year (95 hours per manufacturer × 21 manufacturers). This is a slight recalculation from the 60-day notice in which NHTSA estimated the total burden to be 400 hours. However, as NHTSA needs to estimate the burden on a per response basis, NHTSA needed to change its calculation to estimate the total burden associated with each response (i.e., the average burden a manufacturer would spend providing responses for their vehicle models). Table 1 provides a summary of the estimated burden hours.

Table 1—Burden Hour Estimates
Number of respondents | Annual responses | Estimated burden per response (hours) | Total burden hours
21 | 19 | 5 | 1,995

To calculate the labor cost associated with submitting the vehicle questionnaires, NHTSA looked at wage estimates for the type of personnel involved with compiling and submitting the documents. NHTSA estimates that the five hours for each vehicle model will involve 2.5 hours of data entry (50% of the total), 2 hours for technical information validation (40% of the total), and 0.5 hour for technical content approval (10% of the total). Therefore, NHTSA estimates that each submission will require 47.5 data entry hours, 38 technical information validation hours, and 9.5 technical content approval hours, for an annual total of 997.5 data entry hours, 798 technical information validation hours, and 199.5 technical content approval hours.

NHTSA estimates the total labor costs associated with the data entry burden hours by looking at estimates from the Bureau of Labor Statistics (BLS) for the average hourly wage for Business Operations Specialists (BLS Occupation code 13-1000) in the Motor Vehicle Manufacturing Industry. BLS estimates the average hourly wage is $39.46.¹ The Bureau of Labor Statistics estimates that private industry workers' wages represent 70.4% of total labor compensation costs.² Therefore, NHTSA estimates the hourly labor costs to be $56.05 for data entry. Table 2 provides a summary of the labor costs associated with the burden hours.

¹ See May 2020 National Industry-Specific Occupational Employment and Wage Estimates, NAICS 336100—Motor Vehicle Manufacturing, available at https://www.bls.gov/oes/current/naics4_336100.htm#15-0000 (accessed May 4, 2020).

² See Table 1. Employer Costs for Employee Compensation by ownership (Mar. 2021), available at https://www.bls.gov/news.release/ecec.t01.htm (accessed August 2, 2021).

Table 2—Labor Costs Associated with Burden Hours
Job function | Average hourly labor cost | Total burden hours | Total labor cost
Data Entry | $56.05 | 997.5 | $55,909.88
Technical Information Validation | 87.53 | 798 | 69,848.94
Technical Content Approval | 94.22 | 199.5 | 18,796.89
Estimated Annual Labor Cost Associated with Burden Hours | 144,555.71 ($144,556)

Estimated Total Annual Burden Cost: There are no costs associated with this collection other than the labor costs associated with the burden hours.

Public Comments Invited: You are asked to comment on any aspects of this information collection, including (a) whether the proposed collection of information is necessary for the proper performance of the functions of the Department, including whether the information will have practical utility; (b) the accuracy of the Department's estimate of the burden of the proposed information collection, including the validity of the methodology and assumptions used; (c) ways to enhance the quality, utility and clarity of the information to be collected; and (d) ways to minimize the burden of the collection of information on respondents, including the use of automated, electronic, mechanical, or other technological collection techniques or other forms of information technology, e.g., permitting electronic submission of responses.

Authority: The Paperwork Reduction Act of 1995, 44 U.S.C. Chapter 35; and delegation of authority at 49 CFR 1.95 and DOT Order 1351.29.

Raymond R. Posten,
Associate Administrator for Rulemaking.

[FR Doc. 2021-24634 Filed 11-10-21; 8:45 am]

BILLING CODE 4910-59-P